DEPARTMENT OF THE INTERIOR

National Park Service

[NPS-WASO-NAGPRA-NPS0038054; PPWOCRADN0-PCU00RP14.R50000]

Notice of Intended Disposition: General Services Administration, Fort Worth, TX

AGENCY: National Park Service, Interior.

ACTION: Notice.

SUMMARY: In accordance with the Native American Graves Protection and Repatriation Act (NAGPRA), the General Services Administration (GSA) intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after July 11, 2024. If no claim for disposition is received by June 11, 2025, the human remains or cultural items in this notice will become unclaimed human remains or cultural items.

ADDRESSES: Victoria Clow, General Services Administration, 819 Taylor Street, 11th Floor, Fort Worth, TX 76012, telephone (817) 978-0199, email Victoria.clow@gsa.gov.

SUPPLEMENTARY INFORMATION: This notice is published as part of the National Park Service's administrative responsibilities under NAGPRA. The determinations in this notice are the sole responsibility of the General Services Administration, and additional information on the human remains or cultural items in this notice, including the results of consultation, can be found in the related records. The National Park Service is not responsible for the identifications in this notice.

Abstract of Information Available

The one object of cultural patrimony is a small, complete stone ax. The object was found on Federal property within the city of Santa Fe, Santa Fe County, New Mexico. In November of 2019, during sprinkler maintenance work outside of the archaeological monitoring area, an irrigation worker discovered an artifact in disturbed soils identified as construction fill. The irrigation worker submitted the discovery to the New Mexico Office of Archeological Studies with the Department of Cultural Affairs. An archaeologist with that office notified the General Services Administration and identified the object as likely having ongoing historical, traditional, or cultural importance.

Determinations

The General Services Administration has determined that:

• The one object of cultural patrimony described in this notice have ongoing historical, traditional, or cultural importance central to the Native American group, including any constituent sub-group (such as a band, clan, lineage, ceremonial society, or other subdivision), according to the Native American traditional knowledge of an Indian Tribe or Native Hawaiian organization.

• The Pueblo of Tesuque, New Mexico has priority for disposition of the cultural item described in this notice.

Claims for Disposition

Written claims for disposition of the human remains or cultural items in this notice must be sent to the appropriate official identified in this notice under ADDRESSES. If no claim for disposition is received by June 11, 2025, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after July 11, 2024. If competing claims for disposition are received, the General Services Administration must determine the most appropriate claimant prior to disposition. Requests for joint disposition of the human remains or cultural items are considered a single request and not competing requests. The General Services Administration is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: May 31, 2024.
Melanie O'Brien,
Manager, National NAGPRA Program.

[FR Doc. 2024-12710 Filed 6-10-24; 8:45 am]

BILLING CODE 4312-52-P